DEPARTMENT OF ENERGY

Federal Energy Regulatory Commission

[Docket No. RP00-363-002]

Natural Gas Pipeline Company of America; Notice of Compliance Filing

August 18, 2000.

Take notice that on August 11, 2000, Natural Gas Pipeline Company of America (Natural) tendered for filing to be part of its FERC Gas Tariff, Sixth Revised Volume No. 1, certain tariff sheets to be effective August 1, 2000.

Natural states that these tariff sheets were filed in compliance with the Federal Energy Regulatory Commission's (Commission) “Order Accepting and Suspending Tariff Sheets Subject to Conditions” issued July 27, 2000 in Docket No. RP00-363-000 (Order) related to Natural's implementation of new Rate Schedule FFTS (Flexible Firm Transportation Service).

Natural requests waiver of the Commission's Regulations to the extent necessary to permit the tariff sheets submitted herein to become effective August 1, 2000, consistent with the Order.

Natural states that copies of the filing have been mailed to all parties set out on the Commission's official service list in Docket No. RP00-363.

Any person desiring to protest this filing should file a protest with the Federal Energy Regulatory Commission, 888 First Street, N.E., Washington, D.C. 20426, in accordance with Section 385.211 of the Commission's Rules and Regulations. All such protests must be filed as provide din Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-21596 Filed 8-23-00; 8:45 am]

BILLING CODE 6717-01-M